DEPARTMENT OF HOUSING AND URBAN DEVELOPMENT

[Docket No. FR-5281-N-30]

FHA-Insured Mortgage Loan Servicing of Delinquent, Default and Foreclosure With Service Members Act

AGENCY: Office of the Chief Information Officer, HUD.

ACTION: Notice.

SUMMARY: The proposed information collection requirement described below has been submitted to the Office of Management and Budget (OMB) for review, as required by the Paperwork Reduction Act. The Department is soliciting public comments on the subject proposal.

This information collection involves mortgage loan servicers, “mortgagees” that service Federal Housing Administration “FHA” insured mortgage loans and the home owners, “mortgagors” who are involved with those activities. The new information request for OMB review seeks to combine a couple of existing OMB collections under one comprehensive collection for mortgagees that service FHA-insured mortgage loans and the mortgagors who are the home owners.

DATES: Comments Due Date: May 20, 2009.

ADDRESSES: Interested persons are invited to submit comments regarding this proposal. Comments should refer to the proposal by name and/or OMB approval Number (2502-Pend) and should be sent to: HUD Desk Officer, Office of Management and Budget, New Executive Office Building, Washington, DC 20503; fax: 202-395-6974.

FOR FURTHER INFORMATION CONTACT: Lillian Deitzer, Reports Management Officer, QDAM, Department of Housing and Urban Development, 451 Seventh Street, SW., Washington, DC 20410; e-mail Lillian Deitzer at Lillian_L._Deitzer@HUD.gov or telephone (202) 402-8048. This is not a toll-free number. Copies of available documents submitted to OMB may be obtained from Ms. Deitzer.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice Also Lists the Following Information

Title of Proposal: FHA-Insured Mortgage Loan Servicing of Delinquent, Default and Foreclosure with Service Members Act.

OMB Approval Number: 2502-Pend.

Form Numbers: Delinquency and Default-HUD-PA 416 Avoiding Foreclosure Pamphlet, HUD-9539 Request for Occupied Conveyance, HUD-50012 Lenders Request for Extension of Time, HUD-92070 Service-members Civil Relief Act Notice Disclosure, HUD-27011, Claim for Insurance Benefits.

Description of the Need for the Information and ITS Proposed Use: This information collection involves mortgage loan servicers, “mortgagees” that service Federal Housing Administration “FHA” insured mortgage loans and the home owners, “mortgagors” who are involved with those activities. The new information request for OMB review seeks to combine a couple of existing OMB collections under one comprehensive collection for mortgagees that service FHA-insured mortgage loans and the mortgagors who are the home owners.

Frequency of Submission: On occasion, Monthly.

| Number of respondents | × | Annual responses | × | Hours per response | = | Burden hours
Reporting Burden | 223 |  | 310 |  | .0788 |  | 5,456,245

Total Estimated Burden Hours: 5,456,245.

Status: New Collection.

Authority: Section 3507 of the Paperwork Reduction Act of 1995, 44 U.S.C. 35, as amended.

Dated: April 10, 2009.
Lillian Deitzer,
Departmental Reports Management Officer, Office of the Chief Information Officer.

[FR Doc. E9-9029 Filed 4-17-09; 8:45 am]

BILLING CODE 4210-67-P